FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011223-055.

Title: Transpacific Stabilization Agreement.

Parties: American President Lines, Ltd. and APL Co. PTE Ltd.; (operating as a single carrier); Maersk Line A/S; CMA CGM, S.A.; COSCO Container Lines Company Ltd; Evergreen Line Joint Service Agreement; Hapag-Lloyd AG; Hyundai Merchant Marine Co., Ltd.; Mediterranean Shipping Company; Orient Overseas Container Line Limited; Yangming Marine Transport Corp.; and Zim Integrated Shipping Services, Ltd.

Filing Party: Robert Magovern, Esq.; Cozen O'Connor; 1200 Nineteenth Street NW.; Washington, DC 20036.

Synopsis: The amendment revised Appendix A of the TSA Agreement to remove Hanjin Shipping Co., Ltd., as a party to the Agreement.

Agreement No.: 012444.

Title: ZIM/MOL Equipment Repositioning Agreement.

Parties: Mitsui O.S.K. Lines, Ltd. and Zim Integrated Shipping Services Co., Ltd.

Filing Party: Joshua P. Stein; Cozen O'Connor; 1200 Nineteenth Street NW., Washington DC, 20036.

Synopsis: The Agreement authorizes ZIM and MOL to charter slots on each other's vessels for the carriage of empty containers on an ad hoc basis in the trade between ports on the East, Gulf and West Coast of the United States and ports in Europe, the Mediterranean, Canada, South America, and Asia.

Agreement No.: 012445.

Title: Port of New York/New Jersey Equipment Optimization Discussion Agreement.

Parties: Ocean Carrier Equipment Management Association Agreement (OCEMA) and the Port Authority of New York and New Jersey (Port Authority).

Filing Party: Jeffrey F. Lawrence and Donald J. Kassilke; Cozen O'Connor; 1200 Nineteenth Street NW.; Washington, DC 20036.

Synopsis: The Agreement would authorize the Parties to collect and exchange information, discuss, and reach agreement upon matters relating to cargo throughput, safety, intermodal equipment supply and efficiencies, congestion relief, port and terminal infrastructure, financing of improvements, and clean air or other environmental initiatives affecting operations in and around the Port of New York and New Jersey.

By Order of the Federal Maritime Commission.
Dated: December 2, 2016.
Rachel E. Dickon,
Assistant Secretary.

[FR Doc. 2016-29365 Filed 12-6-16; 8:45 am]

BILLING CODE 6731-AA-P